NATIONAL AERONAUTICS AND SPACE ADMINISTRATION

[Notice (03-041)]

NASA Advisory Council, Biological and Physical Research Advisory Committee, Commercial Advisory Subcommittee; Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee, Commercial Advisory Subcommittee (CAS).

DATES: Monday, April 28, 2003, 9 a.m. to 5 p.m.

ADDRESSES: NASA Ames Research Center, Moffet Field, California, the CEE Conference Room 261, Building 213, in the Systems Engineering Division.

FOR FURTHER INFORMATION CONTACT: Ms. Candace Livingston, Code US, National Aeronautics and Space Administration, Washington, DC 20546, (202) 358-0697.

SUPPLEMENTARY INFORMATION: The meeting will be open to the public up to the seating capacity of the room. Advance notice of attendance to the Executive Secretary is requested. The agenda for the meeting will include the following topics:

—Introduction/Remarks

—Report from the Space Station Utilization Advisory Subcommittee

—Knowledge Mapping Activities

—Decision Rules

—Status of International Space Station Research Institute

—Legislative Issues/Research Re-planning Activities

—Commercial Participating in OBPR Strategic Road Mapping

—Committee Discussion

—Wrap-Up/Recommendations

Attendees will be requested to sign a register and to comply with NASA security requirements, including the presentation of a valid picture ID, before receiving an access badge. Foreign nationals attending this meeting will be required to provide the following information: Full name; gender; date/place of birth; citizenship; visa/greencard information (number, type, expiration date); passport information (number, country, expiration date); employer/affiliation information (name of institution, address, country, phone); title/position of attendee. To expedite admittance, attendees can provide identifying information in advance by contacting Ms. Shirley Berthold via e-mail at sberthold@mail.arc.nasa.gov or by telephone at (650) 604-1654. Attendees will be escorted at all times.

It is imperative that the meeting be held on these dates to accommodate the scheduling priorities of the key participants.

June W. Edwards,
Advisory Committee Management Officer, National Aeronautics and Space Administration.

[FR Doc. 03-8991 Filed 4-11-03; 8:45 am]

BILLING CODE 7510-01-P